ENVIRONMENTAL PROTECTION AGENCY

[EPA-HQ-OPP-2010-0014; FRL-8853-9]

Product Cancellation Order for Certain Pesticide Registrations; Correction

AGENCY: Environmental Protection Agency (EPA).

ACTION: Notice; correction.

SUMMARY: EPA issued a notice in the Federal Register of August 11, 2010, concerning the voluntary cancellation of multiple pesticide products. This document is being issued to rescind the cancellation of Sergeant's Pet Care Products' pesticide product, EPA Reg. No. 2517-79.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

The Agency included in the notice of August 11, 2010, a list of those who may be potentially affected by this action. If you have questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this correction notice do?

This notice rescinds the cancellation of Sergeant's Pet Care Products' pesticide product, EPA Reg. No. 2517-79 which appeared in FR Doc. 2010-19575 published in the Federal Register of August 11, 2010 (75 FR 154) (FRL-88399). The Cancellation Order was issued following a notice announcing Sergeant's request to voluntarily cancel product 2517-79 published in the Federal Register of January 26, 2010. The 180-day comment period ended July 26, 2010, for all cancellation requests published in the notice. Sergeant's sent the Agency a letter dated July 23, 2010, requesting the withdrawal of the cancellation request of product 2517-79. Therefore, Sergeant's pesticide product 2517-79 should not have been included in the Cancellation Order published in the Federal Register of August 11, 2010.

List of Subjects

Environmental protection.

Dated: November 22, 2010.
Richard P. Keigwin, Jr.,
Director, Pesticide Re-evaluation Division, Office of Pesticide Programs.

[FR Doc. 2010-30223 Filed 11-30-10; 8:45 am]

BILLING CODE 6560-50-P